FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 012044-001.

Title: MOL/CMA CGM Slot Charter Agreement.

Parties: CMA CGM, S.A. and Mitsui O.S.K. Lines, Ltd.

Filing Party: Robert B. Yoshitomi, Esq.; Nixon Peabody, LLP; Gas Company Tower; 555 West Fifth Street, 46th Floor; Los Angeles, CA 90013.

Synopsis: The amendment adds the ports of Seattle and Tacoma to the geographic scope of the agreement.

Agreement No.: 012061.

Title: CMA CGM/Maersk Line Space Charter, Sailing and Cooperative Working Agreement Western Mediterranean-U.S. East Coast.

Parties: CMA CGM, S.A. and A.P. Moller-Maersk A/S.

Filing Party: Wayne R. Rohde, Esq.; Sher and Blackwell, LLP; 1850 M Street, NW.; Suite 900; Washington, DC 20036.

Synopsis: The agreement authorizes the parties to share vessel space in the trade between U.S. East Coast ports and ports in the Western Mediterranean.

Agreement No.: 201200.

Title: Houston Marine Terminal Operators/Freight Handlers Agreement.

Parties: Ceres Gulf, Inc.; Chaparral Stevedoring Company of Texas, Inc.; CT Stevedoring, Inc. dba Cooper/T. Smith Stevedoring Co.; Ports America Texas, Inc.; GP Terminals, LLC; Shippers Stevedoring Company; and SSA Gulf, Inc.

Filing Party: Deanna E. Rose, Esq.; Manelli Denison and Selter, PLLC; 2000 M Street, NW.; 7th Floor; Washington, DC 20036-3307.

Synopsis: The agreement authorizes the parties to meet, discuss, and voluntarily agree on matters of common interest at the Port of Houston (the Port), including recommended rates and charges to be published in the Port's tariffs. The parties request expedited review.

Dated: January 23, 2009.
By Order of the Federal Maritime Commission.
Karen V. Gregory,
Secretary.

[FR Doc. E9-1831 Filed 1-28-09; 8:45 am]

BILLING CODE 6730-01-P